DEPARTMENT OF COMMERCE

National Oceanic and Atmospheric Administration

50 CFR Part 635

[Docket No. 011218303-1303-01; I.D. 110501B]

RIN 0648-AP70

Atlantic Highly Migratory Species; Commercial Shark Management Measures; Correction

AGENCY: National Marine Fisheries Service (NMFS), National Oceanic and Atmospheric Administration (NOAA), Commerce.

ACTION: Fishing season notification; correction.

SUMMARY: NMFS published a document in the Federal Register of December 28, 2001, notifying eligible participants of the opening and closing dates for the Atlantic small coastal sharks, pelagic sharks, blue sharks, and porbeagle sharks fishing seasons. The document inadvertently specified dates that referred to the fishing seasons in 2001 instead of 2002. This document corrects that error.

FOR FURTHER INFORMATION CONTACT: Margo Schulze-Haugen or Karyl Brewster-Geisz at 301-713-2347.

SUPPLEMENTARY INFORMATION:

Correction:

In rule FR Doc. 01-31832, published on December 28, 2001, (66 FR 67118) the following correction is made. On page 67118, in the third column, correct the third paragraph of the DATESsection to read: “The fishery opening for SCS, pelagic sharks, blue sharks, and porbeagle sharks is effective January 1, 2002, through June 30, 2002, unless otherwise modified or superseded through a publication in the Federal Register.”

Dated: February 15, 2002.
Bruce C. Morehead,
Acting Director, Office of Sustainable Fisheries, National Marine Fisheries Service.

[FR Doc. 02-4276 Filed 2-21-02; 8:45 am]

BILLING CODE 3510-22-S